ENVIRONMENTAL PROTECTION AGENCY

40 CFR Part 52

[EPA-R07-OAR-2012-0767; FRL-9905-03-Region 7]

Approval and Promulgation of Air Quality Implementation Plans; Missouri; Reasonably Available Control Technology (RACT) for the 8-Hour Ozone National Ambient Air Quality Standard (NAAQS)

AGENCY: Environmental Protection Agency (EPA).

ACTION: Final rule.

SUMMARY: The Environmental Protection Agency (EPA) is taking final action to approve a State Implementation Plan (SIP) revision submitted by the State of Missouri to EPA in a letter dated May 4, 2012. The purpose of the SIP revision is to amend Missouri's regulation for the control of Volatile Organic Compounds (VOC) and meet the requirement to adopt reasonably available control technology (RACT) for sources covered by EPA's Control Technique Guidelines (CTG) for Industrial Cleaning Solvents. We are taking final action to approve this revision because it satisfies the applicable requirements of the Clean Air Act (CAA) with respect to RACT for the Missouri portion of the St. Louis Metropolitan 1997 8-hour ozone nonattainment area.

DATES: This final rule is effective February 5, 2014.

ADDRESSES: EPA has established a docket for this action under Docket Identification No. EPA-R07-OAR-2012-0767. All documents in the docket are listed on the http://www.regulations.gov index. Although listed in the index, some information is not publicly available, i.e., Confidential Business Information (CBI) or other information whose disclosure is restricted by statute. Certain other material, such as copyrighted material, is not placed on the Internet and will be publicly available only in hard copy form. Publicly available docket materials are available either electronically in http://www.regulations.gov or in hard copy at the Air Planning and Development Branch, Air and Waste Management Division, U.S. Environmental Protection Agency Region 7, 11201 Renner Boulevard, Lenexa, Kansas 66219. EPA requests that if at all possible, you contact the person listed in the FOR FURTHER INFORMATION CONTACT section to schedule your inspection. The Regional Office's official hours of business are Monday through Friday, 8:30 a.m. to 4:30 p.m., excluding Federal holidays. The interested persons wanting to examine these documents should make an appointment with the office at least 24 hours in advance.

FOR FURTHER INFORMATION CONTACT: Ms. Lachala Kemp, Air Planning and Development Branch, U.S. Environmental Protection Agency Region 7, 11201 Renner Boulevard, Lenexa, Kansas 66219; telephone number (913) 551-7214; email address: kemp.lachala@epa.gov.

SUPPLEMENTARY INFORMATION: Throughout this document, “we,” “us,” or “our” refer to EPA. This section provides additional information by addressing the following:

I. What action is EPA taking in this final rule?

II. What is the background for the approvals by EPA in this final rule?

III. EPA's Final Action

I. What action is EPA taking in this final rule?

EPA is taking final action to approve a SIP revision submitted by the State of Missouri to EPA on May 4, 2012. The purpose of this revision is to control the emissions of VOCs, consistent with Control Techniques Guidelines (CTGs) issued by EPA, and to satisfy the RACT requirements of the CAA for the Missouri portion of the St. Louis metropolitan 1997 8-hour ozone nonattainment area. Specifically, the revision incorporates an amendment to an existing SIP-approved Missouri regulation 10 Code of State Regulations 10-5.455 to control emissions from Industrial Solvent Cleaning Operations in the St. Louis metropolitan area. The revision includes lowering the allowable emissions threshold for VOCs released per day from the use, storage and disposal of industrial cleaning solvents, and adds requirements for facilities that exceed the applicability threshold. EPA is taking final action to approve this revision because the adoption by Missouri of this regulation represents RACT control levels for CTGs issued by EPA after 2006. In addition, EPA is taking final action to approve this revision because it meets the requirements of the conditional approval EPA issued on January 10, 2012. See 77 FR 3144 (January 23, 2012).

II. What is the background for the approvals by EPA in this final rule?

This section briefly summarizes the background for today's final action. More detailed discussion of the statutory and regulatory background can be found in the preamble to the proposal for this rulemaking. See 78 FR at 45112-45114 (July 26, 2013). No comments were received on the proposed rulemaking.

The St. Louis metropolitan area—which includes the counties of Franklin, Jefferson, St. Charles and St. Louis, and the City of St. Louis in Missouri (as well as four counties in Illinois), is currently designated as a moderate nonattainment area under the 1997 8-hour ozone National Ambient Air Quality Standard (NAAQS).¹ For areas in moderate nonattainment with the ozone NAAQS, section 182(b)(2) of the CAA requires states to submit SIP revisions to EPA that require sources of VOCs in the nonattainment area that are subject to a CTG issued by EPA, and all other major stationary sources,² to implement RACT.

¹ The St. Louis metropolitan area was also recently designated as a “marginal” nonattainment area for the 2008 ozone NAAQS.

² For a moderate nonattainment area, a major stationary source is one which emits, or has the potential to emit, one hundred tons per year or more of VOCs. See CAA section 302(j).

EPA has defined RACT as the lowest emissions limitation that a particular source is capable of meeting by the application of control technology that is reasonably available, considering technological and economic feasibility. 44 FR 53761 (September 17, 1979). EPA provides states with guidance concerning what types of controls could constitute RACT for certain source categories through the issuance of CTGs. See 71 FR 58745, 58747 (October 5, 2006).

Section 183(e) of the CAA provides that EPA may issue a CTG in lieu of a national regulation for categories of consumer or commercial products where the Administrator determines that such guidance will be substantially as effective as regulations in reducing VOC emissions in ozone nonattainment areas.

III. EPA's Final Action

In this rulemaking, EPA is taking final action to approve a revision to Missouri's VOC rule 10 CSR 10-5.455 into Missouri's SIP, as EPA believes that this rule satisfies RACT for the Missouri portion of the St. Louis nonattainment area for Industrial Cleaning Solvents. EPA also believes that this rule satisfies the requirements of the conditional approval of Missouri's VOC RACT SIP referenced above. This final action means that the Missouri SIP meets all of the applicable VOC RACT requirements for St. Louis under section 182(b)(2) of the Act, as they relate to the 1997 ozone NAAQS.

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by March 7, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 12, 2013.
Karl Brooks,
Regional Administrator, Region 7.

Chapter I, title 40 of the Code of Federal Regulations is amended as follows:

PART 52—APPROVAL AND PROMULGATION OF IMPLEMENTATION PLANS

1. The authority citation for part 52 continues to read as follows:

Authority: 42 U.S.C. 7401 et seq.

Subpart AA—Missouri

2. Amend § 52.1320 by:

a. Revising in paragraph (c) the entry for “10-5.455”;

b. Revising paragraph (e)(55).

The revisions read as follows:

§ 52.1320 Identification of plan.

* * * * *

(c) * * *

EPA-Approved Missouri Regulations
Missouri citation | Title | State effective date | EPA approval date | Explanation
* * * * * * *
10-5.455 | Control of Emissions from Industrial Solvent Cleaning Operations | 08/30/2011 | 1/6/2014 [insert Federal Register page number where the document begins] |
* * * * * * *

* * * * *

(e) * * *

EPA-Approved Missouri Nonregulatory SIP Provisions
Name of non-regulatory SIP revision | Applicable geographic or nonattainment area | State submittal date | EPA approval date | Explanation
* * * * * * *
(55) VOC RACT Requirements for the 8-hour ozone NAAQS | St. Louis | 1/17/2007, 6/01/2011, 8/30/2011 | 1/23/2012, 77 FR 3144 1/6/2014 [insert Federal Register page number where the document begins] |
* * * * * * *

* * * * *

[FR Doc. 2013-31566 Filed 1-3-14; 8:45 am]

BILLING CODE 6560-50-P